Title 3—

The President

Proclamation 8255 of May 9, 2008

Peace Officers' Memorial Day and Police Week, 2008

By the President of the United States of America

A Proclamation

Across our Nation, law enforcement officers carry the great responsibility of protecting their fellow citizens. On Peace Officers' Memorial Day and during Police Week, we honor these brave public servants who fight crime, violence, and terrorism, and we pay homage to the heroes who have fallen in the line of duty.

With valor and devotion, our country's law enforcement officers stand watch on the front lines and help make our communities safer and more secure. Fulfilling their duties with courage and commitment, they work tirelessly and put themselves in harm's way, exemplifying the good and decent character of America.

As we observe Peace Officers' Memorial Day and Police Week, we pause to pay tribute to those who serve in law enforcement. On this occasion, we especially remember those who have made the ultimate sacrifice, and we pray for the families and friends they have left behind. We thank all the extraordinary American men and women who have answered the call to serve in law enforcement for their commitment to justice and to their communities.

By a joint resolution approved October 1, 1962, as amended (76 Stat. 676), and by Public Law 103-322, as amended (36 U.S.C. 136-137), the President has been authorized and requested to designate May 15 of each year as “Peace Officers' Memorial Day” and the week in which it falls as “Police Week,” and to direct that the flag be flown at half staff on Peace Officers' Memorial Day.

NOW, THEREFORE, I, GEORGE W. BUSH, President of the United States of America, do hereby proclaim May 15, 2008, as Peace Officers' Memorial Day and May 11 through May 17, 2008, as Police Week. I call on all Americans to observe these events with appropriate ceremonies and activities. I also call on Governors of the United States and the Commonwealth of Puerto Rico, officials of the other territories subject to the jurisdiction of the United States, as well as appropriate officials of all units of government, to direct that the flag be flown at half staff on Peace Officers' Memorial Day. I further encourage all Americans to display the flag at half staff from their homes and businesses on that day.

IN WITNESS WHEREOF, I have hereunto set my hand this ninth day of May, in the year of our Lord two thousand eight, and of the Independence of the United States of America the two hundred and thirty-second.

[FR Doc. 08-1266

Filed 5-13-08; 8:45 am]

Billing code 3195-01-P